DEPARTMENT OF THE INTERIOR

Bureau of Reclamation

Request for Interest in Lease Arrangement on Federal Lands, San Luis Project, Los Banos, California

AGENCY: Bureau of Reclamation, Interior.

ACTION: Notice of availability.

SUMMARY: The Bureau of Reclamation (Reclamation), a water management agency within the Department of the Interior (Interior), announces the availability of a Request for Interest (RFI). Reclamation is seeking interest from any entity or entities interested in developing a renewable energy project(s) in a lease arrangement on existing Reclamation lands in the vicinity of the San Luis Project near Los Banos, California.

DATES: To be assured consideration, all Statements of Interest should be received by Reclamation by August 5, 2011.

ADDRESSES: To obtain a copy of this RFI, please contact Barry Mortimeyer, Bureau of Reclamation, Central Valley Operations Office, Mid-Pacific Region, 3310 El Camino Ave, Suite 300, Sacramento, CA 95821, or e-mail bmortimeyer@usbr.gov. The RFI is also available on Reclamation's Web site at http://www.usbr.gov/mp/cvo/renproj.

FOR FURTHER INFORMATION CONTACT: Contact Barry Mortimeyer at 916-979-3001 or the above e-mail.

SUPPLEMENTARY INFORMATION: Established in 1902, Reclamation has constructed more than 600 dams and reservoirs in the 17 western states along with powerplants and canals at many of those facilities. Reclamation is a water management agency that assists in meeting the increasing water demands of the West while protecting the environment and the public's investment in these structures. Water management efforts emphasize fulfilling water delivery obligations, water conservation, water recycling and reuse, and developing partnerships with our customers, states, and Native American Tribes, and in finding ways to bring together the variety of interests to address the competing needs for our limited water resources.

As part of securing America's energy future, the nation is moving toward a clean-energy economy. Interior has been changing the way it does business by opening its doors to responsible development of renewable energy on its public lands. Interior is facilitating environmentally appropriate renewable-energy projects involving solar, wind and waves, geothermal, biofuels and hydropower. These resources, developed in the right ways and the right places, are intended to curb the dependence on foreign oil, reduce use of fossil fuels, and promote new industries.

This RFI is being issued under authority granted to Reclamation in Section 10 (43 U.S.C. 387) of the Reclamation Act of 1939 which provides the Secretary the authority, at his discretion, to grant leases, licenses, easements, and rights-of-way.

Dated: May 26, 2011.
Paul Fujitani,
Acting Operations Manager, Mid-Pacific Region.

[FR Doc. 2011-14209 Filed 6-7-11; 8:45 am]

BILLING CODE 4310-MN-P